DEPARTMENT OF AGRICULTURE

Forest Service

Notice of Meeting; Federal Lands Recreation Enhancement Act, (Title VIII, Pub. L. 108-447)

AGENCY: Pacific Southwest Region, Forest Service, U.S. Department of Agriculture.

ACTION: Notice of meeting.

SUMMARY: The Pacific Southwest Recreation Resource Advisory Committee (Recreation RAC) will hold a meeting in Monrovia, California. The purpose of this meeting is to conduct a field trip to view fee sites on the Angeles National Forest and to make recommendations for fee proposals on lands managed by the Forest Service and Bureau of Land Management in California.

DATES: The meeting will be held January 14, 2008 from 9 a.m.to 5 p.m. and January 15, 2008 from 8 a.m. to 3 p.m.

ADDRESSES: The meeting will be held at various sites on the Angeles National Forest on the first day and in the Salon A, Courtyard Marriott, 700 W. Huntington Drive, Monrovia, CA 91016 on the second day. Send written comments to Marlene Finley, Designated Federal Official for the Pacific Southwest Region Recreation RAC, 1323 Club Drive, Vallejo, CA 94592, 707-562-8856 or mfinley@fs.fed.us.

FOR FURTHER INFORMATION CONTACT: Marlene Finley, Designated Federal Official, Pacific Southwest Region Recreation RAC, 1323 Club Drive, Vallejo, CA 94592.

SUPPLEMENTARY INFORMATION: The meeting is open to the public. Committee discussion is limited to Forest Service and Bureau of Land Management staff and Committee members. However, persons who wish to bring recreation fee matters to the attention of the Committee may file written statements with the Committee staff before or after the meeting. A public input session will be provided during the meeting and individuals who wish to address the Recreation RAC will have an opportunity at 10 a.m. on January 15. Comments will be limited to 3 minutes per person. The Recreation RAC is authorized by the Federal Land Recreation Enhancement Act, which was signed into law by President Bush in December 2004.

Dated: December 27, 2007.
Lynn Boone,
Acting for Designated Federal Official, Recreation RAC, Pacific Southwest Region.

[FR Doc. E7-25559 Filed 1-2-08; 8:45 am]

BILLING CODE 3410-11-P